NATIONAL ARCHIVES AND RECORDS ADMINISTRATION

[NARA-2020-002]

Agency Information Collection Activities: Submission for OMB Review; Comment Request

AGENCY: National Archives and Records Administration (NARA).

ACTION: Notice.

SUMMARY: We are providing notice that we have requested Office of Management and Budget renewal of an information collection, Freedom of Information Act (FOIA) Request for Assistance and Consent. Our Office of Government Information Services collects this information and consent from people who request mediation services related to their FOIA requests or appeals. We need the information in order to meet Privacy Act requirements for agencies to release information to us as part of our mediation efforts. We invite comments on the proposed information collection.

DATES: Submit comments in writing to OMB at the address below on or before December 4, 2019 to be considered.

ADDRESSES: Send comments to Nicholas Fraser, NARA Desk Officer, by mail to Office of Management and Budget; New Executive Office Building; Washington, DC 20503, by fax to 202.395.5167, or by email to Nicholas_A._Fraser@omb.eop.gov.

FOR FURTHER INFORMATION CONTACT: Direct requests for additional information or copies of the proposed information collection and supporting statement to Tamee Fechhelm at phone number 301.837.1694 or fax number 301.837.7409.

SUPPLEMENTARY INFORMATION: Pursuant to the Paperwork Reduction Act of 1995 (Pub. L. 104-13), NARA invites the public and other Federal agencies to comment on proposed information collections. We published a notice of proposed collection for this information collection on August 26, 2019 (84 FR 44641). We received no comments. We have therefore submitted the described information collection to OMB for approval.

In response to this notice, comments and suggestions should address one or more of the following points: (a) Whether the proposed information collection is necessary for the our to properly perform our functions; (b) the accuracy of our estimate of the burden of the proposed information collection; (c) ways to enhance the quality, utility, and clarity of the information being collected; (d) ways to minimize the burden of the information collection on respondents, including the use of information technology; and (e) whether small businesses are affected by this collection. In this notice, we solicit comments on the following information collection:

Title: Freedom of Information Act (FOIA) Request for Assistance and Consent.

OMB number: 3095-0068.

Agency form number: NA Form 10003.

Type of review: Regular.

Affected public: Individuals or households, business or other for-profit, not-for-profit institutions, and Federal Government.

Estimated number of respondents: 3,646.

Estimated time per response: Ten minutes.

Frequency of response: On occasion.

Estimated total annual burden hours: 608 hours.

Abstract: In order to fulfill its Government-wide statutory mission to mediate FOIA disputes between requesters and agencies, OGIS must communicate with Government departments and agencies regarding the customer's FOIA/Privacy Act of 1974 request or appeal. As a result, OGIS collects intake information from customers who request OGIS's mediation services. This information includes the customer's name, contact information, FOIA case number, information on the customer's concern areas/resolution goals, and documents relating to the underlying Freedom of Information Act/Privacy Act request or appeal. Customers provide this information by phone, fax, email, or mail.

OGIS and other agencies must handle FOIA and Privacy Act-protected case information in conformity with the requirements of the FOIA and Privacy Act, including 5 U.S.C. 552a(b), which prohibits agencies from releasing Privacy-Act protected information without an already-established routine use or consent of the person to whom the information pertains. In accord with this requirement, a subset of customers also must fill out a privacy consent form, NA Form 10003, if dealing with an agency that has not published a system of records notice with a routine use for release of information to OGIS.

OGIS uses the information customers provide in this information collection to contact customers, request information on the customer's case from other Federal agencies, and provide the requested assistance. Without the information submitted in the intake process and the consent form, OGIS would be unable to get the information from other agencies or fulfill its mediation mission.

Swarnali Haldar,
Executive for Information Services/CIO.

[FR Doc. 2019-23965 Filed 11-1-19; 8:45 am]

BILLING CODE 7515-01-P